COMMISSION ON CIVIL RIGHTS

Notice of Public Meeting of the Michigan Advisory Committee for a Meeting To Discuss Potential Project Topics

AGENCY: U.S. Commission on Civil Rights.

ACTION: Announcement of meeting.

SUMMARY: Notice is hereby given, pursuant to the provisions of the rules and regulations of the U.S. Commission on Civil Rights (Commission) and the Federal Advisory Committee Act that the Michigan Advisory Committee (Committee) will hold a meeting on Monday, July 20, 2015, at 3:00 p.m. EST for the purpose of discussing civil rights topics in the state and begin consideration of future projects. The Committee met on May 11 to begin the discussion on civil rights issues in Michigan and will continue the discussion during this meeting, including review of concept papers developed by Committee members.

Members of the public can listen to the discussion. This meeting is available to the public through the following toll-free call-in number: 888-455-2263, conference ID: 2627011. Any interested member of the public may call this number and listen to the meeting. An open comment period will be provided to allow members of the public to make a statement at the end of the meeting. The conference call operator will ask callers to identify themselves, the organization they are affiliated with (if any), and an email address prior to placing callers into the conference room. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are also entitled to submit written comments; the comments must be received in the regional office by August 20, 2015. Written comments may be mailed to the Regional Programs Unit, U.S. Commission on Civil Rights, 55 W. Monroe St., Suite 410, Chicago, IL 60615. They may also be faxed to the Commission at (312) 353-8324, or emailed to Administrative Assistant, Carolyn Allen at callen@usccr.gov. Persons who desire additional information may contact the Regional Programs Unit at (312) 353-8311.

Records and documents discussed during the meeting will be available for public viewing prior to and after the meeting at http://facadatabase.gov/committee/meetings.aspx?cid=255 and clicking on the “Meeting Details” and “Documents” links. Records generated from this meeting may also be inspected and reproduced at the Regional Programs Unit, as they become available, both before and after the meeting. Persons interested in the work of this Committee are directed to the Commission's Web site, http://www.usccr.gov, or may contact the Regional Programs Unit at the above email or street address.

Agenda

Welcome and Introductions

Donna Budnick, Chair

Discussion of civil rights issues in Michigan

Michigan Advisory Committee Members

Future plans and actions

Adjournment

DATES: The meeting will be held on Monday, July 20, 2015, at 3:00 p.m. EST.

Public Call Information:

Dial: 888-455-2263

Conference ID: 2627011

FOR FURTHER INFORMATION CONTACT: David Mussatt at dmussatt@usccr.gov or 312-353-8311.

Dated: May 12, 2015.
David Mussatt,
Chief, Regional Programs Unit.

[FR Doc. 2015-11794 Filed 5-14-15; 8:45 am]

BILLING CODE 6335-01-P